DEPARTMENT OF THE TREASURY

Submission for OMB Review; Comment Request

August 27, 2009.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

Dates: Written comments should be received on or before October 2, 2009 to be assured of consideration.

Internal Revenue Service (IRS)

OMB Number: 1545-2011.

Type of Review: Extension.

Title: Certification of Intent to Adopt a Pre-approved Plan.

Description: Use Form 8905 to treat an employer's plan as a pre-approved plan and therefore eligible for the six-year remedial amendment cycle of Part IV of Revenue Procedure 2005-66, 2005-37 I.R.B. 509. This form is filed with other document(s).

Respondents: Businesses or other for-profits.

Estimated Total Burden Hours: 110,490 hours.

OMB Number: 1545-0239.

Type of Review: Extension.

Form: 5754.

Title: Statement by Person(s) Receiving Gambling Winnings.

Description: Section 3402(q)(6) of the IRC requires a statement by the person receiving certain gambling winnings when that person is not the winner or is one of a group of winners. It enables the payer to properly apportion the winnings and withheld tax on Form W-2G. We use the information on Form W-2G to ensure that recipients are properly reporting their income.

Respondents: Businesses or other for-profits.

Estimated Total Burden Hours: 40,800 hours.

OMB Number: 1545-0025.

Type of Review: Extension.

Form: 851.

Title: Affiliations Schedule.

Description: Form 851 provides IRS with information to ascertain (1) The names and identification numbers of the members of the affiliated group included in the consolidated return, (2) taxes paid by each member of the group, and (3) stock ownership; changes in stock ownership and other information to determine that each corporation is a qualified member of the affiliated group as defined in section 1504 of the Code.

Respondents: Businesses or other for-profits.

Estimated Total Burden Hours: 51,040 hours.

OMB Number: 1545-1426.

Type of Review: Extension.

Title: INTL-21-91 (Temporary and Final) Section 6662—Imposition of the Accuracy-Related Penalty.

Description: These regulations provide guidance about substantial and gross valuation misstatements as defined in sections 6662(e) and 6662(h). They also provide guidance about the reasonable cause and good faith exclusion. The regulations apply to taxpayers who have transactions between persons described in section 482 and not section 482 transfer price adjustments.

Respondents: Businesses or other for-profits.

Estimated Total Burden Hours: 20,125 hours.

OMB Number: 1545-1973.

Type of Review: Extension.

Form: Schedule C-EZ (Form 1040).

Title: Net Profit from Business.

Description: Schedule C-EZ (Form 1040) is used by individuals to report their employment taxes. The data is used to verify that the items reported on the form are correct and also for general statistical use.

Respondents: Businesses or other for-profits.

Estimated Total Burden Hours: 1,027,515 hours.

OMB Number: 1545-0495.

Type of Review: Revision.

Form: 4506A.

Title: Request for Public Inspection or Copy of Exempt or Political Organization IRS Form.

Description: Internal Revenue Code section 6104 states that if an organization described in section 501(c) or (d) is exempt from taxation under section 50(a) for any taxable year, the application for exemption is open for public inspection. This includes all supporting documents, any letter or other documents issued by the IRS concerning the application, and certain annual returns of the organization. Form 4506-A is used to request public inspection or a copy of these documents.

Respondents: Businesses or other for-profits.

Estimated Total Burden Hours: 20,200 hours.

OMB Number: 1545-1800.

Type of Review: Extension.

Form: 8886.

Title: Reportable Transaction Disclosure Statement.

Description: Regulation section 1.6011-4 requires certain taxpayers to disclose reportable transactions in which they directly or indirectly participated.

Respondents: Businesses or other for-profits.

Estimated Total Burden Hours: 8,904 hours.

OMB Number: 1545-0771.

Type of Review: Extension.

Title: EE-63-88 (Final and temporary regulations) Taxation of Fringe Benefits and Exclusions from Gross Income for Certain Fringe Benefits; IA-140-86 (Temporary) Fringe Benefits; Listed Property.

Description: EE-63-88. This regulation provides guidance on the tax treatment of taxable and nontaxable fringe benefits and general and specific rules for the valuation of taxable fringe benefits in accordance with Code sections 61 and 132. The regulation also provides guidance on exclusions from gross income for certain fringe benefits. IA-140-86. This regulation provides guidance relating to the requirement that any deduction or credit with respect to business travel, entertainment, and gift expenses be substantiated with adequate records in accordance with Code section 274(d).

Respondents: Businesses or other for-profits.

Estimated Total Burden Hours: 37,922,688 hours.

OMB Number: 1545-1131.

Type of Review: Extension.

Title: INTL-485-89 (Final) Taxation of Gain or Loss from Certain Nonfunctional Currency Transactions (Section 988 Transactions).

Description: Sections 988(c)(1)(D) and (E) require taxpayers to make certain elections which determine whether section 988 applies. In addition sections 988(a)(1)(B) and 988(d) require taxpayers to identify transactions which generate capital gain or loss or which are hedges of other transactions.

Respondents: Businesses or other for-profits.

Estimated Total Burden Hours: 3,333 hours.

OMB Number: 1545-2008.

Type of Review: Extension.

Form: 8907.

Title: Nonconventional Source Fuel Credit.

Description: Form 8907 will be used to claim a credit from the production and sale of fuel created from nonconventional sources. For tax years ending after 12/31/05 fuel from coke or coke gas can qualify for the credit, and the credit becomes part of the general business credit.

Respondents: Businesses or other for-profits.

Estimated Total Burden Hours: 171,160 hours.

OMB Number: 1545-0195.

Type of Review: Extension.

Form: 5213.

Title: Election to Postpone Determination as to whether the Presumption applies that an activity is engaged in for profit.

Description: This form is used by individuals, partnerships, estates, trusts, and S corporations to make an election to postpone an IRS determination as to whether an activity is engaged in for profit for 5 years (7 years for breeding, training, showing, or racing horses). The data is used to verify eligibility to make the election.

Respondents: Businesses or other for-profits.

Estimated Total Burden Hours: 2,762 hours.

Clearance Officer: R. Joseph Durbala, (202) 622-3634, Internal Revenue Service, Room 6516, 1111 Constitution Avenue, NW., Washington, DC 20224.

OMB Reviewer: Shagufta Ahmed, (202) 395-7873, Office of Management and Budget, Room 10235, New Executive Office Building, Washington, DC 20503.

Celina Elphage,
Treasury PRA Clearance Officer.

[FR Doc. E9-21213 Filed 9-1-09; 8:45 am]

BILLING CODE 4830-01-P